NUCLEAR REGULATORY COMMISSION

[NRC-2016-0161]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from July 19, 2016, to August 1, 2016. The last biweekly notice was published on August 2, 2016.

DATES: Comments must be filed by September 15, 2016. A request for a hearing must be filed by October 17, 2016.

ADDRESSES: You may submit comments by any of the following methods (unless this document describes a different method for submitting comments on a specific subject):

• Federal Rulemaking Web site: Go to http://www.regulations.gov and search for Docket ID NRC-2016-0161. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384, email: Janet.Burkhardt@nrc.gov.

I. Obtaining Information and Submitting Comments

A. Obtaining Information

Please refer to Docket ID NRC-2016-0161, facility name, unit number(s), plant docket number, application date, and subject when contacting the NRC about the availability of information for this action. You may obtain publicly-available information related to this action by any of the following methods:

• Federal Rulemaking Web site: Go to http://www.regulations.gov and search for Docket ID NRC-2016-0161.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document

• NRC's PDR: You may examine and purchase copies of public documents at the NRC's PDR, Room O1-F21, One White Flint North, 11555 Rockville Pike, Rockville, Maryland 20852.

B. Submitting Comments

Please include Docket ID NRC-2016-0161, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion to support its position on the issue. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with the NRC's regulations, policies, and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by October 17, 2016. The petition must be filed in accordance with the filing instructions in the “Electronic Submissions (E-Filing)” section of this document, and should meet the requirements for petitions for leave to intervene set forth in this section, except that under 10 CFR 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission to the NRC,” which is available on the agency's public Web site at http://www.nrc.gov/site-help/electronic-sub-ref-mat.html. Participants may attempt to use other software not listed on the Web site, but should note that the NRC's E-Filing system does not support unlisted software, and the NRC Electronic Filing Help Desk will not be able to offer assistance in using unlisted software.

If a participant is electronically submitting a document to the NRC in accordance with the E-Filing rule, the participant must file the document using the NRC's online, Web-based submission form.

Once a participant has obtained a digital ID certificate and a docket has been created, the participant can then submit a request for hearing or petition for leave to intervene. Submissions should be in Portable Document Format (PDF) in accordance with NRC guidance available on the NRC's public Web site at http://www.nrc.gov/site-help/electronic-sub-ref-mat.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 7 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a hearing request and petition to intervene will require including information on local residence in order to demonstrate a proximity assertion of interest in the proceeding. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station (PVNGS), Units 1, 2, and 3, Maricopa County, Arizona

Date of amendment request: June 29, 2016. Publicly-available version is in ADAMS under Accession No. ML16182A171.

Description of amendment request: The amendments would revise the Technical Specifications (TSs) for PVNGS, Units 1, 2, and 3, by modifying the TS requirements to address Generic Letter (GL) 2008-01, “Managing Gas Accumulation in Emergency Core Cooling, Decay Heat Removal, and Containment Spray Systems,” dated January 11, 2008 (ADAMS Accession No. ML072910759), as described in Technical Specification Task Force (TSTF) Traveler TSTF-523, Revision 2, “Generic Letter 2008-01, Managing Gas Accumulation” (ADAMS Accession No. ML13053A075).

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises or adds [Surveillance Requirements (SRs)] that require verification that the [Emergency Core Cooling System (ECCS)], the [Shutdown Cooling (SDC)] System, and the [Containment Spray (CS)] System, are not rendered inoperable due to accumulated gas and to provide allowances which permit performance of the revised verification. Gas accumulation in the subject systems is not an initiator of any accident previously evaluated. As a result, the probability of any accident previously evaluated is not significantly increased. The proposed SRs ensure that the subject systems continue to be capable of performing their safety functions and are not rendered inoperable due to gas accumulation. Thus, the consequences of any accident previously evaluated are not significantly increased.

Therefore, the proposed change does not involve a significant increase in the probability or consequences of an accident previously evaluated.

2. Does the proposed amendment create the possibility of a new or different kind of accident from any accident previously evaluated?

Response: No.

The proposed change revises or adds SRs that require verification that the ECCS, the SDC System, and the CS System are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed amendment involve a significant reduction in a margin of safety?

Response: No.

The proposed change revises or adds SRs that require verification that the ECCS, the SDC System, and the CS System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

Duke Energy Florida, Inc., et al., Docket No. 50-302, Crystal River Unit 3 Nuclear Generating Plant (CR-3), Citrus County, Florida

Date of amendment request: September 22, 2015. A publicly-available version is in ADAMS under Accession No. ML15265A590.

Description of amendment request: The amendment would reflect the name change from Duke Energy Florida, Inc., to Duke Energy Florida, LLC.

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not involve a significant increase in the probability of any accident previously evaluated because no accident initiators or assumptions are affected. The proposed license transfer and name change is administrative in nature and has no direct effect on any plant system, plant personnel qualifications, or the operation and maintenance of CR-3.

2. Does the proposed change create the possibility of a new or different kind of accident from any accident previously evaluated?

Response: No.

The proposed change does not create the possibility of a new or different kind of accident from any previously evaluated because no new accident initiators or assumptions are introduced by the proposed changes. The proposed license transfer and name change is administrative in nature and has no direct effect on any plant system, plant personnel qualifications, or operation and maintenance of CR-3.

3. Does the proposed amendment involve a significant reduction in a margin of safety?

Response: No.

The proposed change does not involve a significant reduction in a margin of safety because the proposed change does not involve changes to the initial conditions contributing to accident severity or consequences, or reduce response or mitigation capabilities. The proposed license transfer and name change is administrative in nature and has no direct effect on any plant system, plant personnel qualifications, or operation and maintenance of CR-3.

The NRC staff has reviewed the licensee's analysis and, based on this review, it appears that the three standards of 50.92(c) are satisfied. Therefore, the NRC staff proposes to determine that the amendment request involves no significant hazards consideration.

Attorney for licensee: Lara S. Nichols, 550 South Tryon Street, Charlotte NC 28202.

NRC Branch Chief: Bruce A. Watson.

Duke Energy Progress, Inc., Docket Nos. 50-325 and 50-324; Brunswick Steam Electric Plant, Units 1 and 2, Brunswick County, North Carolina

Duke Energy Carolinas, LLC, Docket Nos. 50-413 and 50-414, Catawba Nuclear Station, Units 1 and 2, York County, South Carolina

Duke Energy Progress, Inc., Docket No. 50-400; Shearon Harris Nuclear Power Plant, Unit 1, Wake County, North Carolina

Duke Energy Carolinas, LLC, Docket Nos. 50-369 and 50-370, McGuire Nuclear Station, Units 1 and 2, Mecklenburg County, North Carolina

Duke Energy Carolinas, LLC, Docket Nos. 50-269, 50-270, and 50-287, Oconee Nuclear Station, Units 1, 2, and 3, Oconee County, South Carolina

Duke Energy Progress, Inc., Docket No. 50-261, H. B. Robinson Steam Electric Plant, Unit No. 2, Darlington County, South Carolina

Date of amendment request: June 23, 2016. A publicly-available version is in ADAMS under Accession No. ML16175A292.

Description of amendment request: The amendments would modify the Technical Specification (TS) requirements for unavailable barriers by adding Limiting Condition for Operation (LCO) 3.0.9 to the TSs for the Brunswick Steam Electric Plant, Oconee Nuclear Station, and H.B. Robinson Steam Electric Plant. The same changes are added as LCO 3.0.10 to the TSs for the Catawba Nuclear Station and McGuire Nuclear Station. For the Shearon Harris Nuclear Power Plant, the proposed amendment would modify TS requirements for unavailable barriers by adding LCO 3.0.6 to the TSs. The proposed changes are consistent with Technical Specification Task Force (TSTF) Traveler TSTF-427, Revision 2, “Allowance for Non-Technical Specification Barrier Degradation on Supported System OPERABILITY,” subject to stated variations.

Basis for proposed no significant hazards consideration determination: As required by 10 CFR 50.91(a), the licensee has provided its analysis of the issue of no significant hazards consideration, which is presented below:

1. Does the proposed change involve a significant increase in the probability or consequences of an accident previously evaluated?

Response: No.

The proposed change allows a delay time for entering a supported system technical specification (TS) when the inoperability is due solely to an unavailable barrier if risk is assessed and managed. The postulated initiating events which may require a functional barrier are limited to those with low frequencies of occurrence, and the overall TS system safety function would still be available for the majority of anticipated challenges. Therefore, the probability of an accident previously evaluated is not significantly increased, if at all. The consequences of an accident while relying on the allowance provided by proposed LCO 3.0.9 are no different than the consequences of an accident while relying on the TS required actions in effect without the allowance provided by proposed LCO 3.0.9. Therefore, the consequences of an accident previously evaluated are not significantly affected by this change. The addition of a requirement to assess and manage the risk introduced by this change will further minimize possible concerns.

Therefore, this change does not involve a significant increase in the probability or consequences of an accident previously evaluated.

2. Does the proposed change create the possibility of a new or different kind of accident from any accident previously evaluated?

Response: No.

The proposed change does not involve a physical alteration of the plant (no new or different type of equipment will be installed). Allowing delay times for entering supported system TS when inoperability is due solely to an unavailable barrier, if risk is assessed and managed, will not introduce new failure modes or effects and will not, in the absence of other unrelated failures, lead to an accident whose consequences exceed the consequences of accidents previously evaluated. The addition of a requirement to assess and manage the risk introduced by this change will further minimize possible concerns.

Therefore, this change does not create the possibility of a new or different kind of accident from an accident previously evaluated.

3. Does the proposed change involve a significant reduction in the margin of safety?

Response: No.

The proposed change allows a delay time for entering a supported system TS when the inoperability is due solely to an unavailable barrier, if risk is assessed and managed. The postulated initiating events which may require a functional barrier are limited to those with low frequencies of occurrence, and the overall TS system safety function would still be available for the majority of anticipated challenges. The risk impact of the proposed TS changes was assessed following the three-tiered approach recommended in RG [Regulatory Guide] 1.177. A bounding risk assessment was performed to justify the proposed TS changes. This application of LCO 3.0.9 is predicated upon the licensee's performance of a risk assessment and the management of plant risk. The net change to the margin of safety is insignificant as indicated by the anticipated low levels of associated risk (ICCDP [incremental conditional core damage probability] and ICLERP [incremental conditional large early release probability]) as shown in Table 1 of Section 3.1.1 in the Safety Evaluation.

Therefore, this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tyron Street, Mail Code DEC45A, Charlotte, NC 28202.

NRC Branch Chief: Michael T. Markley.

PSEG Nuclear LLC, Docket No. 50-354, Hope Creek Generating Station, Salem County, New Jersey

Date of amendment request: June 17, 2016. A publicly-available version is in ADAMS under Accession No. ML16172A010.

Description of amendment request: The amendment would revise the Technical Specifications (TSs) by adding a note permitting one low-pressure coolant injection (LPCI) subsystem of residual heat removal (RHR) to be considered OPERABLE in Operating Conditions (OPCONs) 4 and 5 during alignment and operation for decay heat removal, if capable of being manually realigned and not otherwise inoperable.

Basis for proposed no significant hazards consideration determination: As required by 10 CFR 50.91(a), the licensee has provided its analysis of the issue of no significant hazards consideration, which is presented below:

1. Does the proposed amendment involve a significant increase in the probability or consequences of an accident previously evaluated?

Response: No.

There are no physical changes being made to the plant. The LPCI mode of RHR is an automatic ECCS [emergency core cooling system] function during OPCONs 4 and 5. LPCI mode is used in accident conditions to provide cooling and mitigate accident conditions. The proposed note would allow one LPCI subsystem to be considered operable during alignment and operation for decay heat removal if capable of being manually realigned and not otherwise inoperable. The required number of operable ECCS subsystems in OPCONs 4 and 5 would not be reduced from the current requirement. Considering one LPCI subsystem as operable when aligned for SDC [shutdown cooling] does not increase the probability or consequences of an accident. Although it will take longer to realign manually from SDC to LPCI in the event of a drain-down event or accident, with the lower heat loads and temperatures in OPCONs 4 and 5, the operator will have sufficient margin to perform the realignment in the event of a draindown event prior to core uncovery.

Therefore, the proposed change does not involve a significant increase in the probability or consequences of an accident previously evaluated.

2. Does the proposed amendment create the possibility of a new or different kind of accident from any accident previously evaluated?

Response: No.

The LPCI mode of RHR is an accident mitigator, not an initiator. This change will not reduce the number of required ECCS subsystems during OPCONs 4 and 5. The change will permit the operability of one LPCI subsystem while the components of that subsystem are aligned and operating in the Shutdown Cooling mode of RHR. The change does not alter current methods of plant operation nor does the change make a physical change to plant equipment resulting in an unanalyzed malfunction of equipment.

Therefore, the proposed changes do not create the possibility of a new or different kind of accident from any previously evaluated.

3. Does the proposed amendment involve a significant reduction in a margin of safety?

Response: No.

The proposed change, which adds a note which will allow one LPCI subsystem to be considered operable during alignment and operation for decay heat removal if capable of being manually realigned and not otherwise inoperable, does not exceed or alter a setpoint, design basis or safety limit.

The basis of TS section 3.5.2 is to ensure sufficient ECCS capacity to maintain core cooling in OPCONs 4 and 5. This proposed change does not affect the required number of ECCS subsystems during OPCONs 4 and 5; therefore adequate capability through subsystem redundancy is maintained. The amount of time required to obtain rated LPCI conditions is increased due to the manual realignment, from the Main Control Room, of the suction valves and restart of the RHR pump following LPCI injection conditions. However, this change will not result in any design or regulatory limit being exceeded with respect to the safety analyses documented in the UFSAR [updated final safety analysis report] and is consistent with NUREG-1433.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Douglas A. Broaddus.

South Carolina Electric and Gas Company and South Carolina Public Service Authority, Docket Nos. 52-027 and 52-028, Virgil C. Summer Nuclear Station (VCSNS), Units 2 and 3, Fairfield County, South Carolina

Date of amendment request: June 28, 2016. A publicly-available version is in ADAMS under Accession No. ML16181A097.

Description of amendment request: The proposed changes, if approved for the VCSNS, involve departures from incorporated plant-specific Tier 2 and Tier 2* Updated Final Safety Analysis Report (UFSAR) information and conforming changes to the combined license Appendix C, in order to make changes to the design of certain components of the auxiliary building roof reinforcement and roof girders, and other related changes.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the auxiliary building roof are to provide support, protection, and separation for the seismic Category I mechanical and electrical equipment located in the auxiliary building. The auxiliary building is a seismic Category I structure and is designed for dead, live, thermal, pressure, safe shutdown earthquake loads, and loads due to postulated pipe breaks. The auxiliary building roof is designed for snow, wind, and tornado loads and postulated external missiles. The proposed changes to UFSAR descriptions and figures are intended to address changes in the detail design of the auxiliary building roof. The thickness and strength of the auxiliary building roof are not reduced. As a result, the design function of the auxiliary building structure is not adversely affected by the proposed changes. There is no change to plant systems or the response of systems to postulated accident conditions. There is no change to the predicted radioactive releases due to postulated accident conditions. The plant response to previously evaluated accidents or external events is not adversely affected, nor do the changes described create any new accident precursors.

Therefore, the proposed amendment does not involve a significant increase in the probability or consequences of an accident previously evaluated.

2. Does the proposed amendment create the possibility of a new or different kind of accident from any accident previously evaluated?

Response: No.

The proposed changes to UFSAR descriptions and figures are proposed to address changes in the detail design of the auxiliary building roof. The thickness, geometry, and strength of the structures are not adversely altered. The concrete and reinforcement materials are not altered. The properties of the concrete are not altered. The changes to the design details of the auxiliary building structure do not create any new accident precursors. As a result, the design function of the auxiliary building structure is not adversely affected by the proposed changes.

Therefore, the proposed amendment does not create the possibility of a new or different kind of accident previously evaluated.

3. Does the proposed amendment involve a significant reduction in a margin of safety?

Response: No.

The criteria and requirements of American Concrete Institute (ACI) 349 and American Institute of Steel Construction (AISC) N690 provide a margin of safety to structural failure. The design of the auxiliary building structure conforms to applicable criteria and requirements in ACI 349 and AISC N690 and therefore maintains the margin of safety. The proposed changes to the UFSAR address changes in the detail design of the auxiliary building roof. There is no change to design requirements of the auxiliary building structure. There is no change to the method of evaluation from that used in the design basis calculations. There is not a significant change to the in structure response spectra. No safety analysis or design basis acceptance limit/criterion is challenged or exceeded by the proposed changes, thus no margin of safety is reduced.

Therefore, the proposed amendment does not involve a significant reduction in a margin of safety previously evaluated.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Acting Branch Chief: Jennifer Dixon-Herrity.

South Carolina Electric & Gas Company and South Carolina Public Service Authority, Docket Nos. 52-027 and 52-028, Virgil C. Summer Nuclear Station (VCSNS), Units 2 and 3, Fairfield County, South Carolina

Date of amendment request: July 11, 2016. A publicly-available version is in ADAMS under Accession No. ML16193A488.

Description of amendment request: The amendment request proposes changes to the Combined Licenses (COL) Appendix A Technical Specifications (TS) and Updated Final Safety Analysis Report (UFSAR) in the form of departures from the incorporated plant-specific Design Control Document Tier 2 information. Specifically, the proposed departures consist of changes to the UFSAR adding compensation for changes in reactor coolant density using the “delta T” power signal, to the reactor coolant flow input signal for the low reactor coolant flow trip function of the Reactor Trip System (RTS). Additionally, TS Surveillance Requirement (SR) 3.3.1.3 is added to the surveillances required for the Reactor Coolant Flow-Low reactor trip in TS Table 3.3.1-1, Function 7.

Basis for proposed no significant hazards consideration determination. As required by 10 CFR 50.91(a), the licensee has provided its analysis of the issue of no significant hazards consideration, which is presented below:

1. Does the proposed amendment involve a significant increase in the probability or consequences of an accident previously evaluated?

Response: No.

The proposed change adds compensation, for changes in reactor coolant density using the [delta T] power signal, to the reactor coolant flow input signal for the low reactor coolant flow reactor trip function of the RTS. The proposed change also adds TS SR 3.3.1.3 to the surveillances required for the Reactor Coolant Flow-Low reactor trip specified in TS Table 3.3.1-1. SR 3.3.1.3 compares the calorimetric heat balance to the calculated [delta T] power in each Protection and Safety Monitoring System (PMS) division every 24 hours to assure acceptable [delta T] power calibration. As such, the surveillance is also required to support operability of the Reactor Coolant Flow-Low trip function. This change to the low reactor coolant flow trip input signal assures that the reactor will trip on low reactor coolant flow when the requisite conditions are met, and minimize spurious reactor trips and the accompanying plant transients. The change to the COL Appendix A Table 3.3.1-1 aligns the surveillance of the Reactor Coolant Flow-Low trip with the addition of the compensation, for changes in reactor coolant density using [delta T] power to the flow input signal to the trip. These changes do not affect the operation of any systems or equipment that initiate an analyzed accident or alter any structures, systems, and components (SSC) accident initiator or initiating sequence of events.

These changes have no adverse impact on the support, design, or operation of mechanical and fluid systems. The response of systems to postulated accident conditions is not adversely affected and remains within response time assumed in the accident analysis. There is no change to the predicted radioactive releases due to normal operation or postulated accident conditions. Consequently, the plant response to previously evaluated accidents or external events is not adversely affected, nor does the proposed change create any new accident precursors.

Therefore, the proposed amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed change adds compensation, for changes in reactor coolant density using [delta T] power signal, to the reactor coolant flow input signal to the low reactor coolant flow reactor trip function of the RTS. The proposed change also adds TS SR 3.3.1.3 to the surveillances required for the Reactor Coolant Flow-Low reactor trip specified in TS Table 3.3.1-1. SR 3.3.1.3 compares the calorimetric heat balance to the calculated [delta T] power in each PMS division every 24 hours to assure acceptable [delta T] power calibration. As such, the surveillance is also required to support operability of the Reactor Coolant Flow-Low trip function. The proposed change to the low reactor coolant flow reactor trip input signal does not alter the design function of the low flow reactor trip. The change to the COL Appendix A Table 3.3.1-1 aligns the surveillance of the Reactor Coolant Flow-Low trip with the addition of compensation, for changes in reactor coolant density using [delta T] power to the flow input signal to the trip. Consequently, because the low reactor coolant flow trip functions are unchanged, there are no adverse effects that could create the possibility of a new or different kind of accident from any previously evaluated in the UFSAR.

Therefore, the proposed amendment does not create the possibility of a new or different kind of accident from any accident previously evaluated.

3. Does the proposed amendment involve a significant reduction in a margin of safety?

Response: No.

The proposed change adds compensation, for changes in reactor coolant density using [delta T] power signal, to the reactor coolant flow input signal for the low reactor coolant flow trip function of the RTS. The proposed change also adds TS SR 3.3.1.3 to the surveillances required for the Reactor Coolant Flow-Low reactor trip specified in TS Table 3.3.1-1. SR 3.3.1.3 compares the calorimetric heat balance to the calculated [delta T] power in each PMS division every 24 hours to assure acceptable [delta T] power calibration. As such, the surveillance is also required to support operability of the Reactor Coolant Flow-Low trip function. The proposed changes do not alter any applicable design codes, code compliance, design function, or safety analysis. Consequently, no safety analysis or design basis acceptance limit/criterion is challenged or exceeded by the proposed change, thus the margin of safety is not reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Acting Branch Chief: Jennifer Dixon-Herrity.

Southern Nuclear Operating Company, Docket Nos. 52-025 and 52-026, Vogtle Electric Generating Plant (VEGP), Units 3 and 4, Burke County, Georgia

Date of amendment request: March 11, 2016, as revised on July 12, 2016. A publicly-available version is in ADAMS under Accession Nos. ML16071A404 and ML16196A099, respectively.

Description of amendment request: The requested amendment proposes to depart from approved AP1000 Design Control Document (DCD) Tier 2* and associated Tier 2 information in the Updated Final Safety Analysis Report (UFSAR) (which includes the plant-specific DCD Tier 2 information). Specifically, the requested amendment proposes to depart from UFSAR text and figures that describe the connections between floor modules and structural wall modules in the containment internal structures.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the nuclear island structures are to provide support, protection, and separation for the seismic Category I mechanical and electrical equipment located in the nuclear island. The nuclear island structures are structurally designed to meet seismic Category I requirements as defined in Regulatory Guide 1.29.

The change of the design details for the floor modules and the connections between floor modules and the structural wall modules, and the change to more clearly state the design requirement that these connections meet criteria and requirements of American Concrete Institute (ACI) 349 and American Institute of Steel Construction (AISC) N690, do not have an adverse impact on the response of the nuclear island structures to safe shutdown earthquake ground motions or loads due to anticipated transients or postulated accident conditions. The change of the design details for the connections between floor modules and the structural wall modules, and the clarification of design requirements for these connections, do not impact the support, design, or operation of mechanical and fluid systems. There is no change to plant systems or the response of systems to postulated accident conditions. There is no change to the predicted radioactive releases due to normal operation or postulated accident conditions. The plant response to previously evaluated accidents or external events is not adversely affected, nor does the change described create any new accident precursors.

Therefore, the proposed amendment does not involve a significant increase in the probability or consequences of an accident previously evaluated.

2. Does the proposed amendment create the possibility of a new or different kind of accident from any accident previously evaluated?

Response: No.

The proposed change is to revise design details for the floor modules and the connections between floor modules and the structural wall modules, and more clearly state the design requirement that these connections meet criteria and requirements of ACI 349 and AISC N690. The clarification and changes to the design details for the floor modules and the connections between floor modules and the structural wall modules do not change the design requirements of the nuclear island structures. The clarification and changes of the design details for the floor modules and the connections between floor modules and the structural wall modules do not change the design function, support, design, or operation of mechanical and fluid systems. The clarification and changes of the design details for the floor modules and the connections between floor modules and the structural wall modules do not result in a new failure mechanism for the nuclear island structures or new accident precursors. As a result, the design function of the nuclear island structures is not adversely affected by the proposed change.

Therefore, the proposed amendment does not create the possibility of a new or different kind of accident from any accident previously evaluated.

3. Does the proposed amendment involve a significant reduction in a margin of safety?

Response: No.

No safety analysis or design basis acceptance limit/criterion is challenged or exceeded by the proposed changes, thus, no margin of safety is reduced. The acceptance limits for the design of seismic Category I structures are included in the codes and standards used for the design, analysis, and construction of the structures. The two primary codes for the seismic Category I structures are American Institute of Steel Construction (AISC) N690 and American Concrete Institute (ACI) 349. These codes provide a margin of safety to structural failure. The changes to the design of the connection of the floor module to the structural wall modules in the containment internal structures satisfy applicable provisions of AISC N690 and ACI 349 and supplemental requirements included in the UFSAR, and therefore maintain the margin of safety.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Acting Branch Chief: Jennifer Dixon-Herrity.

Southern Nuclear Operating Company, Docket Nos. 52-025 and 52-026, Vogtle Electric Generating Plant (VEGP), Units 3 and 4, Burke County, Georgia

Date of amendment request: June 16, 2016. A publicly-available version is in ADAMS under Accession No. ML16168A399.

Description of amendment request: The amendment request proposes changes to the Technical Specification and Updated Final Safety Analysis Report (UFSAR) Tier 2 information to update the Protection and Safety Monitoring System (PMS) to align with the requirements in Institute of Electrical and Electronics Engineers (IEEE) 603-1991, “IEEE Standard Criteria for Safety Systems for Nuclear Power Generating Stations.” IEEE 603-1991, Clause 6.6, “Operating Bypasses,” imposes requirements on the operating bypasses (i.e., “blocks” and “resets”) used for the AP1000 PMS. The PMS functional logic for blocking the source range neutron flux doubling signal shown in UFSAR Figure 7.2-1 (Sheet 3) requires revision to fully comply with this requirement.

Basis for proposed no significant hazards consideration determination: As required by 10 CFR 50.91(a), the licensee has provided its analysis of the issue of no significant hazards consideration, which is presented below with NRC staff's edits in square brackets:

1. Does the proposed amendment involve a significant increase in the probability or consequences of an accident previously evaluated?

Response: No.

The proposed change modifies the PMS logic used to terminate an inadvertent boron dilution accident which results in a source range flux doubling signal. An inadvertent boron dilution is caused by the failure of the demineralized water transfer and storage system or chemical and volume control system, either by controller, operator or mechanical failure. The proposed changes to PMS and Technical Specification requirements do not adversely affect any of these accident initiators or introduce any component failures that could lead to a boron dilution event; thus the probabilities of accidents previously evaluated are not affected. The proposed changes do not adversely interface with or adversely affect any system containing radioactivity or affect any radiological material release source term; thus the radiological releases in an accident are not affected.

Therefore, the proposed change does not involve a significant increase in the probability or consequences of an accident previously evaluated.

2. Does the proposed amendment create the possibility of a new or different kind of accident from any accident previously evaluated?

Response: No.

The accident analysis evaluates events involving a decrease in reactor coolant system boron concentration due to a malfunction of the chemical and volume control system in Modes 1 through 6. The Technical Specifications currently provide administrative controls to prevent a boron dilution event in Mode 6. The proposed change would provide additional PMS interlocks and administrative controls for prevention of a boron dilution event applicable in Modes 2, 3, 4, and 5. The proposed changes to the PMS design do not adversely affect the design or operation of safety related equipment or equipment whose failure could initiate an accident from what is already described in the licensing basis. These changes do not adversely affect fission product barriers. No safety analysis or design basis acceptance limit/criterion is challenged or exceeded by the requested change.

Therefore, the proposed amendment does not create the possibility of a new or different kind of accident from any accident previously evaluated.

3. Does the proposed amendment involve a significant reduction in a margin of safety?

Response: No.

The proposed change would add additional restrictions on the source range flux doubling signal operational bypass to align it with the requirements in IEEE 603 and provide assurance that the protection logic is enabled whenever the plant is in a condition where protection might be required. These changes to the PMS design do not adversely impact nor affect the design, construction, or operation of any plant [structure, system, and components (SSCs)], including any equipment whose failure could initiate an accident or a failure of a fission product barrier. No analysis is adversely affected by the proposed changes. Furthermore, no system function, design function, or equipment qualification will be adversely affected by the changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Acting Branch Chief: Jennifer Dixon-Herrity.

Wolf Creek Nuclear Operating Corporation (WCNOC), Docket No. 50-482, Wolf Creek Generating Station, Coffey County, Kansas

Date of amendment request: June 14, 2016. A publicly-available version is in ADAMS under Accession No. ML16174A121.

Description of amendment request: The amendment would revise the Cyber Security Plan Implementation Milestone No. 8 completion date and the physical protection license condition.

Basis for proposed no significant hazards consideration determination: As required by 10 CFR 50.91(a), the licensee has provided its analysis of the issue of no significant hazards consideration, which is presented below:

1. Does the proposed change involve a significant increase in the probability or consequences of an accident previously evaluated?

Response: No.

The proposed change to the WCNOC Cyber Security Plan Implementation Schedule is administrative in nature. This proposed change does not alter accident analysis assumptions, add any initiators, or affect the function of plant systems or the manner in which systems are operated, maintained, modified, tested, or inspected. The proposed change does not require any plant modifications which affect the performance capability of the structures, systems, and components (SSCs) relied upon to mitigate the consequences of postulated accidents, and has no impact on the probability or consequences of an accident previously evaluated.

Therefore, the proposed changes do not involve a significant increase in the probability or consequences of an accident previously evaluated.

2. Does the proposed change create the possibility of a new or different kind of accident from any accident previously evaluated?

Response: No.

The proposed change to the WCNOC Cyber Security Plan Implementation Schedule is administrative in nature. This proposed change does not alter accident analysis assumptions, add any initiators, or affect the function of plant systems or the manner in which systems are operated, maintained, modified, tested, or inspected. The proposed change does not require any plant modifications which affect the performance capability of the SSCs relied upon to mitigate the consequences of postulated accidents, and does not create the possibility of a new or different kind of accident from any accident previously evaluated.

Therefore, the proposed change does not create the possibility of a new or different kind of accident from any previously evaluated.

3. Does the proposed change involve a significant reduction in a margin of safety?

Response: No.

Plant safety margins are established through limiting conditions for operation, limiting safety system settings, and safety limits specified in the technical specifications. The proposed change to the WCNOC Cyber Security Plan Implementation Schedule is administrative in nature. Since the proposed change is administrative in nature, there are no changes to these established safety margins.

Therefore the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street NW., Washington, DC 20037.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket Nos. 50-336 and 50-423, Millstone Power Station, Unit No. 2 (MPS2) and Unit No. 3 (MPS3), New London County, Connecticut

Date of amendment request: June 30, 2015, as supplemented by letters dated February 25 and June 29, 2016.

Brief description of amendment: The amendments revised the MPS2 and MPS3 licensing basis by deleting the information in the final safety analysis reports pertaining to the severe line outage detection special protection system, updating the description of the tower structures associated with the four offsite transmission lines feeding Millstone Power Station (MPS), and describing how the current offsite power source configuration and design satisfies the requirements of General Design Criteria (GDC) 17, “Electric Power Systems,” and GDC 5, “Sharing of Structures, Systems, and Components.” A new technical requirements manual (TRM) section, “Offsite Line Power Sources,” was added to the MPS2 and MPS3 TRM supporting the licensing basis change. Specifically, with one offsite transmission line nonfunctional, the TRM requirement would allow 72 hours to restore the nonfunctional line with a provision to allow up to 7 days (for Lines 310, 348, and 383) or up to 14 days (for Line 371/364) if specific TRM action requirements are met.

Date of issuance: July 28, 2016.

Effective date: As of the date of issuance and shall be implemented within 60 days of issuance.

Amendment Nos.: 328 and 269. A publicly-available version is in ADAMS under Accession No. ML16193A001; documents related to these amendments are listed in the Safety Evaluation enclosed with the amendments.

Renewed Facility Operating License Nos. DPR-65 and NPF-49: Amendments revised the Renewed Operating Licenses.

Date of initial notice in Federal Register: October 13, 2015 (80 FR 61478). The supplemental letters dated February 25 and June 29, 2016, provided additional information that clarified the application, did not expand the scope of the application as originally noticed, and did not change the staff's original proposed no significant hazards consideration determination as published in the Federal Register.

The Commission's related evaluation of the amendments is contained in a Safety Evaluation dated July 28, 2016.

No significant hazards consideration comments received: No.

Dominion Nuclear Connecticut, Inc., Docket No. 50-423, Millstone Power Station, Unit No. 3 (MPS3), New London County, Connecticut

Date of amendment request: May 8, 2015, as supplemented by letters dated January 28, February 25, March 23, March 29, and May 2, 2016.

Brief description of amendment: The amendment revised the Technical Specifications (TSs) to (1) allow the use of Dominion nuclear safety and reload core design methods; (2) allow the use of applicable departure from nucleate boiling ratio design limits for VIPRE-D; (3) update the approved reference methodologies cited in TS 6.9.1.6.b; (4) remove the base load mode of operation that is not a feature of the Dominion Relaxed Power Distribution Control power distribution control methodology; and (5) address the issues identified in Westinghouse Nuclear Safety Advisory Letter (NSAL-09-5), Rev. 1, NSAL-15-1, and Westinghouse Communication 06-IC-03. Additionally, the amendment relocates certain equations, supporting descriptions and surveillance requirements from the TSs to licensee-controlled documents.

Date of issuance: July 28, 2016.

Effective date: As of the date of issuance and shall be implemented within 90 days of issuance.

Amendment No.: 268. A publicly-available version is in ADAMS under Accession No. ML16131A728; documents related to this amendment are listed in the Safety Evaluation enclosed with the amendment.

Renewed Facility Operating License No. DPR-65: Amendment revised the Renewed Operating License and TSs.

Date of initial notice in Federal Register: September 1, 2015 (80 FR 52804). The supplemental letters dated January 28, February 25, March 23, March 29, and May 2, 2016, provided additional information that clarified the application, did not expand the scope of the application as originally noticed, and did not change the staff's original proposed no significant hazards consideration determination as published in the Federal Register. A subsequent notice was published in the Federal Register on June 13, 2016 (81 FR 38226), to include the added clarification that the proposed amendment changes involve the relocation of TS information either to the TS Bases or the Core Operating Limits Report which are both licensee-controlled documents. There were no changes to the no significant hazards consideration determination as originally noticed.

The Commission's related evaluation of the amendment is contained in a Safety Evaluation dated July 28, 2016.

No significant hazards consideration comments received: No.

Duke Energy Carolinas, LLC, Docket Nos. 50-413 and 50-414, Catawba Nuclear Station, Units 1 and 2, York County, South Carolina; Docket Nos. 50-369 and 50-370, McGuire Nuclear Station, Units 1 and 2, Mecklenburg County, North Carolina; and Docket Nos. 50-269, 50-270, and 50-287, Oconee Nuclear Station, Units 1, 2, and 3, Oconee County, South Carolina

Date of amendment request: July 15, 2015, as supplemented by letter dated February 1, 2016.

Brief description of amendments: The amendments revised the facilities' Updated Final Safety Analysis Reports (UFSARs) to provide gap release fractions for high-burnup fuel rods that exceed the linear heat generation rate limit detailed in Table 3, Footnote 11, of Regulatory Guide 1.183, “Alternative Radiological Source Terms for Evaluating Design Basis Accidents at Nuclear Power Reactors,” July 2000 (ADAMS Accession No. ML003716792).

Date of issuance: July 19, 2016.

Effective date: As of the date of issuance and shall be implemented within 120 days from the date of issuance.

Amendment Nos.: 285 (Unit 1) and 281 (Unit 2), for the Catawba Nuclear Station; 289 (Unit 1) and 268 (Unit 2), for the McGuire Nuclear Station; and 401 (Unit 1), 403 (Unit 2), and 402 (Unit 3), for the Oconee Nuclear Station. A publicly-available version is in ADAMS under Accession No. ML16159A336; documents related to these amendments are listed in the Safety Evaluation enclosed with the amendments.

Renewed Facility Operating License Nos. NPF-35 and NPF-52, for the Catawba Nuclear Station Units 1 and 2; NPF-9 and NPF-17, for the McGuire Nuclear Station, Units 1 and 2; and DPR-38, DPR-47, DPR-55, for the Oconee Nuclear Station, Units 1, 2, and 3: The amendments revised the facilities as described in the UFSARs.

Date of initial notice in Federal Register: October 13, 2015 (80 FR 61480). The supplemental letter dated February 1, 2016, provided additional information that clarified the application, did not expand the scope of the application as originally noticed, and did not change the staff's original proposed no significant hazards consideration determination as published in the Federal Register.

The Commission's related evaluation of the amendments is contained in a Safety Evaluation dated July 19, 2016.

No significant hazards consideration comments received: No.

Duke Energy Progress, Inc., Docket No. 50-400, Shearon Harris Nuclear Power Plant, Unit 1, Wake and Chatham Counties, North Carolina

Date of amendment request: December 17, 2015, as supplemented by letters dated April 25, 2016, and June 8, 2016.

Brief description of amendment: The amendment revised the as-found lift setting tolerance for main steam line code safety valves, revised the nominal reactor trip setpoint on pressurizer water level, and revised pressurizer water level span in the Technical Specifications (TSs).

Date of issuance: July 25, 2016.

Effective date: As of the date of issuance and shall be implemented within 90 days of issuance. The updated final safety analysis report (UFSAR) changes shall be implemented in the next periodic update to the UFSAR in accordance with 10 CFR 50.71(e).

Amendment No.: A publicly-available version is in ADAMS under Accession No. ML16155A124; documents related to this amendment are listed in the Safety Evaluation enclosed with the amendment.

Renewed Facility Operating License No. NPF-63: Amendment revised the Renewed Facility Operating License and TSs.

Date of initial notice in Federal Register: April 5, 2016 (81 FR 19646). The supplemental letters dated April 25 and June 8, 2016, provided additional information that clarified the application, did not expand the scope of the application as originally noticed, and did not change the staff's original proposed no significant hazards consideration determination as published in the Federal Register.

The Commission's related evaluation of the amendment is contained in a Safety Evaluation dated July 25, 2016.

No significant hazards consideration comments received: No.

Entergy Operations, Inc., Docket No. 50-382, Waterford Steam Electric Station, Unit 3 (Waterford 3), St. Charles Parish, Louisiana

Date of amendment request: June 17, 2015, as supplemented by letters dated March 3, April 28, and July 12, 2016.

Brief description of amendment: The amendment modified the Waterford 3 Technical Specifications (TSs) by relocating specific surveillance frequencies to a licensee-controlled program. The amendment is in compliance with NRC-approved Technical Specifications Task Force (TSTF) Traveler TSTF-425, Revision 3, “Relocate Surveillance Frequencies to Licensee Control—RITSTF Initiative 5b.

Date of issuance: July 26, 2016.

Effective date: As of the date of issuance and shall be implemented within 90 days from the date of issuance.

Amendment No.: 249. A publicly-available version is in ADAMS under Accession No. ML16159A419; documents related to this amendment are listed in the Safety Evaluation enclosed with the amendment.

Facility Operating License No. NPF-38: The amendment revised the Facility Operating License and TSs.

Date of initial notice in Federal Register: September 1, 2015 (80 FR 52805). The supplements dated March 3, April 28, and July 12, 2016, provided additional information that clarified the application, did not expand the scope of the application as originally noticed, and did not change the staff's original proposed no significant hazards consideration determination as published in the Federal Register.

The Commission's related evaluation of the amendment is contained in a Safety Evaluation dated July 26, 2016.

No significant hazards consideration comments received: No.

Exelon Generation Company, LLC, Docket Nos. STN 50-456 and STN 50-457, Braidwood Station, Unit Nos. 1 and 2, Will County, Illinois

Date of application for amendment: August 19, 2014, as supplemented by letters dated January 20, March 31, April 30, August 24, October 9, October 30, November 9, and December 16, 2015, and February 12 and April 29, 2016.

Brief description of amendment: The amendment raised the Technical Specification (TS) temperature limit of the cooling water supplied to the plant from the ultimate heat sink from less than or equal to (≤) 100 degrees Fahrenheit (°F) to ≤ 102 °F.

Date of issuance: July 26, 2016.

Effective date: As of the date of issuance and shall be implemented within 30 days from the date of issuance.

Amendment Nos.: Unit No. 1-189; Unit No. 2-189. A publicly-available version is in ADAMS under Accession No. ML16133A438; documents related to these amendments are listed in the Safety Evaluation enclosed with the amendments.

Renewed Facility Operating License Nos. NPF-72 and NPF-77: The amendment revised the License and TSs.

Date of initial notice in Federal Register: March 31, 2015 (80 FR 17088). The supplements contained clarifying information, did not change the scope of the requested change, and did not change the NRC staff's initial proposed finding of no significant hazards consideration.

The Commission's related evaluation of the amendments is contained in a Safety Evaluation dated July 26, 2016.

No significant hazards consideration comments received: No.

Florida Power & Light Company, et al., Docket Nos. 50-335 and 50-389, St. Lucie Plant, Unit Nos. 1 and 2, St. Lucie County, Florida

Date of amendment request: July 14, 2015, as supplemented by letters dated January 21 and July 15, 2016.

Brief description of amendments: The amendments revised the Technical Specifications (TSs) by removing Surveillance Requirement (SR) 4.8.1.1.2.g.1 related to draining each fuel oil storage tank, removing the accumulated sediment, and cleaning the tank. The amendments require the licensee to place the content of the SR in the Updated Final Safety Analysis Report to be controlled in accordance with 10 CFR 50.59, “Changes, tests, and experiments.”

Date of issuance: July 28, 2016.

Effective date: As of the date of issuance and shall be implemented within 60 days of issuance.

Amendment Nos.: 233 and 183. A publicly-available version is in ADAMS under Accession No. ML16103A397; documents related to these amendments are listed in the Safety Evaluation enclosed with the amendments.

Renewed Facility Operating License Nos. DPR-67 and NPF-16: Amendments revised the Renewed Facility Operating Licenses and TSs.

Date of initial notice in Federal Register: September 29, 2015 (80 FR 58518). The supplemental letters dated January 21, and July 15, 2016, provided additional information that clarified the application, did not expand the scope of the application as originally noticed, and did not change the staff's original proposed no significant hazards consideration determination as published in the Federal Register.

The Commission's related evaluation of the amendment is contained in a safety evaluation dated July 28, 2016.

No significant hazards consideration comments received: No.

Nebraska Public Power District, Docket No. 50-298, Cooper Nuclear Station (CNS), Nemaha County, Nebraska

Date of amendment request: August 6, 2015, as supplemented by letter dated March 17, 2016.

Brief description of amendment: The amendment revised the Technical Specifications (TSs) to relocate the reactor coolant system (RCS) pressure-temperature (P-T) limits from the TS limiting condition for operation to a new licensee-controlled document—the Pressure and Temperature Limits Report. The actual RCS P-T limit curves, as currently established in the CNS TS, and all associated parameters, which are valid through 32 effective full power years of facility operation, are not affected by the TS amendment.

Date of issuance: July 25, 2016.

Effective date: As of the date of issuance and shall be implemented within 60 days from the date of issuance.

Amendment No.: 256. A publicly-available version is in ADAMS under Accession No. ML16158A022; documents related to this amendment are listed in the Safety Evaluation enclosed with the amendment.

Renewed Facility Operating License No. DPR-46: The amendment revised the Facility Operating License and TSs.

Date of initial notice in Federal Register: November 3, 2015 (80 FR 67802). The supplemental letter dated March 17, 2016, provided additional information that clarified the application, did not expand the scope of the application as originally noticed, and did not change the NRC staff's original proposed no significant hazards consideration determination as published in the Federal Register.

The Commission's related evaluation of the amendment is contained in a Safety Evaluation July 25, 2016.

No significant hazards consideration comments received: No.

Nebraska Public Power District, Docket No. 50-298, Cooper Nuclear Station, Nemaha County, Nebraska

Date of amendment request: March 11, 2016.

Brief description of amendment: The amendment revised Technical Specification (TS) 1.1, “Definitions, Shutdown Margin (SDM)” consistent with the proposed changes in Technical Specification Task Force (TSTF) Change Traveler, TSTF-535, Revision 0, “Revise Shutdown Margin [SDM] Definition to Address Advanced Fuel Designs.” Prior to the amendment, the plant's SDM (i.e., the amount of reactivity by which the reactor is subcritical) was calculated using a shutdown moderator temperature of 68 degrees Fahrenheit (°F). This value was conservative for standard fuel designs. However, new, advanced boiling-water reactor fuel designs can have a higher reactivity at moderator shutdown temperatures above 68 °F. Therefore, the amendment implemented TSTF-535, Revision 0, which modified the TSs to require the SDM to be calculated at whatever moderator temperature produces the maximum reactivity with moderator temperature greater than or equal to68 °F.

Date of issuance: July 25, 2016.

Effective date: As of the date of issuance and shall be implemented within 60 days from the date of issuance.

Amendment No.: 254. A publicly-available version is in ADAMS under Accession No. ML16119A433; documents related to this amendment are listed in the Safety Evaluation enclosed with the amendment.

Renewed Facility Operating License No. DPR-46: The amendment revised the Facility Operating License and TSs.

Date of initial notice in Federal Register: April 12, 2016 (81 FR 21600).

The Commission's related evaluation of the amendment is contained in a Safety Evaluation dated July 25, 2016.

No significant hazards consideration comments received: No.

Nebraska Public Power District, Docket No. 50-298, Cooper Nuclear Station, Nemaha County, Nebraska

Date of amendment request: September 8, 2015, as supplemented by letter dated June 13, 2016.

Brief description of amendment: The amendment replaced Technical Specification (TS) Figure 4.1-1, “Site and Exclusion Area Boundaries and Low Population Zone,” with a text description of the site in TS 4.1, “Site Location.” In addition, typographical errors were corrected in Section 1.1, “Definitions.”

Date of issuance: July 25, 2016.

Effective date: As of the date of issuance and shall be implemented within 60 days from the date of issuance.

Amendment No.: 255. A publicly-available version is in ADAMS under Accession No. ML16146A749; documents related to this amendment are listed in the Safety Evaluation enclosed with the amendment.

Renewed Facility Operating License No. DPR-46: The amendment revised the Facility Operating License and TSs.

Date of initial notice in Federal Register: November 10, 2015 (80 FR 69712). The supplemental letter dated June 13, 2016, provided additional information that clarified the application, did not expand the scope of the application as originally noticed, and did not change the staff's original proposed no significant hazards consideration determination as published in the Federal Register.

The Commission's related evaluation of the amendment is contained in a Safety Evaluation dated July 25, 2016.

No significant hazards consideration comments received: No.

NextEra Energy Duane Arnold, LLC, Docket No. 50-331, Duane Arnold Energy Center, Linn County, Iowa

Date of amendment request: July 30, 2015.

Brief description of amendment: The amendment revised Technical Specification (TS) Sections 1.1, “Definitions,” 3.4.9, “[Reactor Coolant System (RCS)] Pressure and Temperature (P/T) Limits,” and 5.6, “Reporting Requirements,” by replacing the existing reactor vessel heatup and cooldown rate limits and the P/T limit curves with references to a P/T Limits Report (PTLR).

Date of issuance: July 25, 2016.

Effective date: As of the date of issuance and shall be implemented within 60 days of the date of issuance.

Amendment No.: 294. A publicly-available version is in ADAMS under Accession No. ML16180A086; documents related to this amendment are listed in the Safety Evaluation enclosed with the amendment.

Renewed Facility Operating License No. DPR-49: The amendment revised the Operating License and TSs.

Date of initial notice in Federal Register: December 8, 2015 (80 FR 76328). The supplemental by letters dated December 18, 2015, and February 19, March 11, and March 30, 2016, provided additional information that clarified the application, did not expand the scope of the application as originally noticed, and did not change the staff's original proposed no significant hazards consideration determination as published in the Federal Register.

The Commission's related evaluation of the amendment is contained in a Safety Evaluation dated July 25, 2016.

No significant hazards consideration comments received: No.

Northern States Power Company—Minnesota, Docket No. 50-263, Monticello Nuclear Generating Plant (MNGP), Wright County, Minnesota

Date of amendment request: September 2, 2015.

Brief description of amendment: The amendment revised Technical Specification (TS) Surveillance Requirement 3.5.1.3.b to require verification that the MNGP alternate nitrogen system required pressure be greater than or equal to 1060 psig [pounds per square inch gauge] instead of greater than or equal to 410 psig as previously stated.

Date of issuance: August 1, 2016.

Effective date: As of the date of issuance and shall be implemented within 90 days.

Amendment No.: 190. A publicly-available version is in ADAMS under Accession No. ML16196A303; documents related to this amendment are listed in the Safety Evaluation enclosed with the amendment.

Renewed Facility Operating License No. DPR-22. Amendment revised the Renewed Facility Operating License and TSs.

Date of initial notice in Federal Register: October 13, 2015 (80 FR 61483).

The Commission's related evaluation of the amendment is contained in a Safety Evaluation dated August 1, 2016.

No significant hazards consideration comments received: No.

Tennessee Valley Authority, Docket No. 50-391, Watts Bar Nuclear Plant, Unit 2, Rhea County, Tennessee

Date of amendment request: December 31, 2015.

Brief description of amendment: The amendment revised the license to permit use of the Fuel Rod Performance and Design 4 Thermal Conductivity Degradation (PAD4TCD) computer program for the second cycle of plant operation.

Date of issuance: July 25, 2016.

Effective date: As of the date of issuance and shall be implemented within 14 days of issuance.

Amendment No.: 1. A publicly-available version is in ADAMS under Accession No. ML16174A354; documents related to this amendment are listed in the Safety Evaluation enclosed with the amendment.

Facility Operating License No. NPF-96: Amendment revised the Facility Operating License.

Date of initial notice in Federal Register: March 1, 2016 (81 FR 10682).

The Commission's related evaluation of the amendment is contained in a Safety Evaluation dated July 25, 2016.

No significant hazards consideration comments received: No.

Dated at Rockville, Maryland, this 3rd day of August, 2016.
For the Nuclear Regulatory Commission.
Anne T. Boland,
Director, Division of Operating Reactor Licensing, Office of Nuclear Reactor Regulation.

[FR Doc. 2016-19213 Filed 8-15-16; 8:45 am]

BILLING CODE 7590-01-P